DEPARTMENT OF AGRICULTURE

Forest Service

Custer County Resource Advisory Committee

AGENCY: Forest Service, USDA.

ACTION: Notice of meeting.

SUMMARY: The Custer County Resource Advisory Committee will meet in Custer, South Dakota. The purpose of the meeting is review and selection of project proposals to be funded by the 2009 allocation.

DATES: The meeting will be held November 17, 2009 at 5:30 p.m.

ADDRESSES: The meeting will be held at the Black Hills National Forest Supervisors Office. Written comments should be sent to Lynn Kolund at 330 Mount Rushmore Road, Custer, South Dakota 57730. Comments may also be sent via e-mail to lkolund@fs.fed.us, or via facsimile to 605-673-5461.

All comments, including names and addresses when provided, are placed in the record and are available for public inspection and copying. The public may inspect comments received at 330 Mount Rushmore Road, Custer, South Dakota. Visitors are encouraged to call ahead to 605-673-4853 to facilitate entry into the building.

FOR FURTHER INFORMATION CONTACT: Lynn Kolund, Designated Federal Official, Hell Canyon Ranger District, 605-673-4853.

Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to Forest Service staff and Council members. However, persons who wish to bring 2009 Project Proposal matters to the attention of the Council may file written statements with the Council staff before or after the meeting. Public input sessions will be provided and individuals who made written requests by November 13, 2009 will have the opportunity to address the Council at the November 17, 2009 session.

Dated: October 26, 2009.
Lynn Kolund,
Designated Federal Official.

[FR Doc. E9-26157 Filed 10-29-09; 8:45 am]

BILLING CODE 3410-11-M